DEPARTMENT OF COMMERCE

National Oceanic and Atmospheric Administration

RIN 0648-XE436

Marine Mammals; File No. 19309

AGENCY: National Marine Fisheries Service (NMFS), National Oceanic and Atmospheric Administration (NOAA), Commerce.

ACTION: Notice; receipt of application.

SUMMARY: Notice is hereby given that the NMFS National Marine Mammal Laboratory, 7600 Sand Point Way NE., Seattle, WA 98115-6349 (Responsible Party: John Bengtson, Ph.D.), has applied in due form for a permit to conduct research on pinnipeds in Alaska.

DATES: Written, telefaxed, or email comments must be received on or before March 24, 2016.

ADDRESSES: The application and related documents will be available for review by selecting “Records Open for Public Comment” from the “Features” box on the Applications and Permits for Protected Species (APPS) home page, https://apps.nmfs.noaa.gov, and then selecting File No. 19309 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include File No. 19309 in the subject line of the email comment.

Those individuals requesting a public hearing should submit a written request to the Chief, Permits and Conservation Division at the address listed above. The request should set forth the specific reasons why a hearing on this application would be appropriate.

FOR FURTHER INFORMATION CONTACT: Amy Sloan, (301) 427-8401.

SUPPLEMENTARY INFORMATION: The subject permit is requested under the authority of the Marine Mammal Protection Act of 1972, as amended (MMPA; 16 U.S.C. 1361 et seq.), and the regulations governing the taking and importing of marine mammals (50 CFR part 216).

The applicant requests a five-year permit for takes of bearded (Erignathus barbatus), harbor (Phoca vitulina), ribbon (Histriophoca fasciata), ringed (Phoca hispida hispida), and spotted seals (Phoca largha) in the North Pacific Ocean, Bering Sea, Arctic Ocean, and coastal regions of Alaska. The purposes of the research are to investigate the foraging ecology, population abundance and trends, population structure, habitat requirements, health, vital rates, and effects of natural and anthropogenic factors on these species. Up to 150, annually, of each ice-associated seal species (bearded, ribbon, ringed, and spotted) and up to 250 harbor seals may be captured, handled, and released for measurement of body condition, collection of tissue samples, deployment of telemetry devices, and other procedures as described in the application. An additional 3,000 of each ice associated seal species and 5,500 harbor seals may be incidentally harassed annually during capture activities or collection of feces and other samples from haul-out substrate. Annual takes by harassment during aerial surveys (manned and unmanned) include 3,200 bearded, 6,000 harbor, 1,750 ribbon, 6,700 ringed, and 4,500 spotted seals. Up to 500 Steller sea lions (Eumetopias jubatus) of the Eastern Distinct Population Segment may be taken annually by incidental harassment during harbor seal aerial surveys. Authorization is requested for up to 15 unintentional mortalities of each species (excluding Steller sea lions) over the life of the permit, not to exceed 5 annually.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: February 16, 2016.
Perry F. Gayaldo,
Deputy Director, Office of Protected Resources, National Marine Fisheries Service.

[FR Doc. 2016-03683 Filed 2-22-16; 8:45 am]

BILLING CODE 3510-22-P